DEPARTMENT OF TRANSPORTATION

Federal Aviation Administration

[Policy Statement No. ANM-01-03]

Factors To Consider When Reviewing an Applicant's Proposed Human Factors Methods of Compliance for Flight Deck Certification

AGENCY: Federal Aviation Administration (FAA), DOT.

ACTION: Notice of final policy; correction.

SUMMARY: The Federal Aviation Administration (FAA) announces a correction to a final policy memorandum that clarifies current FAA policy with respect to compliance with human factors-related regulations during certification projects on transport category airplanes.

DATE: This final policy was issued by the Transport Airplane Directorate on February 7, 2003.

FOR FURTHER INFORMATION CONTACT: Steve Boyd, Federal Aviation Administration, Transport Airplane Directorate, Transport Standards Staff, Airplane & Flightcrew Interface Branch, ANM-111, 1601 Lind Avenue SW., Renton, WA 98055-4056; telephone (425) 227-1138; fax (425) 227-1320; e-mail: 9-ANM-111-human-factors@faa.gov.

SUPPLEMENTARY INFORMATION:

Background

On February 7, 2003, the FAA issued policy memorandum number ANM-01-03 on the subject of guidance with respect to the recommended content of a Human Factors Certification Plan. After issuance and publication of the notice of final policy, an inadvertent error in the memo was brought to our attention. The error occurs in the “Effect of Policy” paragraph, second sentence. This sentence is corrected to read: “The general policy stated in this document does not constitute a new regulation or create what the courts refer to as a ‘binding norm.’ ” The error has been corrected and the revised memorandum, ANM-01-03(A) is available on the Internet at the following address: http://www.airweb.faa.gov/rgl.

If you do not have access to the Internet, you can obtain a copy of the policy by contacting the person listed under FOR FURTHER INFORMATION CONTACT.

Issued in Renton, Washington, on July 14, 2003.
Kalene C. Yanamura,
Acting Manager, Transport Airplane Directorate, Aircraft Certification Service.

[FR Doc. 03-18920 Filed 7-24-03; 8:45 am]

BILLING CODE 4910-13-P